DEPARTMENT OF THE INTERIOR

National Park Service

Northeast Region; Notice of Intent To Prepare an Environmental Impact Statement and Hold Public Meetings

In accordance with the National Environmental Policy Act of 1969 (Pub. L. 91-109 Section 102(c)), the National Park Service is preparing an Environmental Impact Statement (EIS) for the resource study of the Upper Housatonic Valley National Heritage Area, as authorized by Public Law 106-470. The Upper Housatonic Valley study area encompasses a watershed area with eight municipalities (Litchfield County) in Connecticut and eighteen municipalities (Berkshire County) in Massachusetts. The purpose of the EIS/study is to determine if this region is eligible to become a National Heritage Area. If the National Park Service determines that the Upper Housatonic Valley has an assemblage of natural, historic, and cultural resources that together represent distinctive aspects of American heritage worthy of recognition, conservation, interpretation, and continuing use, Congress could designate the region a National Heritage Area. The study will identify alternative management options to interpret and manage the heritage area. The alternatives will describe: proposed heritage area boundaries; evaluations of significance, suitability, and feasibility; characteristics of the proposed management entity; participation of State and local governments and private and public organizations; anticipated levels of public use; economic and social benefits of public use.

The National Park Service will hold three public meetings in September, 2002, that will provide opportunities for public input into the scoping for the EIS/study. The purpose of these meetings is to obtain both written and verbal comments concerning the future direction and development of the Upper Housatonic Valley National Heritage Area.

Additional information about the EIS/study will be available from the National Park Service Boston Support Office, James O'Connell, Project Manager, National Park Service Boston Support Office, 15 State Street, Boston, Massachusetts 02109-3572, (617) 223-5222. Those persons who wish to comment verbally or in writing, or who require further information, should contact Mr. James O'Connell, Project Manager.

The draft EIS/study is expected to be completed and available for public review in August, 2002. After public and interagency review of the draft document, comments will be considered and a final EIS followed by a Record of Decision will be prepared.

Dated: December 11, 2001.
Sandra Corbett,
Superintendent, Boston Support Office.

[FR Doc. 02-6041 Filed 3-12-02; 8:45 am]

BILLING CODE 4310-70-P